DEPARTMENT OF ENERGY

Federal Energy Regulatory Commission

[Docket No. EC04-42-000, et al.]

Pittsfield Generating Company, L.P., et al.; Electric Rate and Corporate Filings

December 30, 2003.

The following filings have been made with the Commission. The filings are listed in ascending order within each docket classification.

1. Pittsfield Generating Company, L.P. and PE-Pittsfield LLC

[Docket Nos. EC04-42-000 and ER98-4400-006]

Take notice that on December 22, 2003, PE-Pittsfield LLC (PE-Pittsfield) filed with the Federal Energy Regulatory Commission an application pursuant to section 203 of the Federal Power Act for authorization of a disposition of jurisdictional facilities whereby PE-Pittsfield will become general partner of Pittsfield Generating Company, L.P., a public utility and exempt wholesale generator in Massachusetts, with a nominal capacity of 163 MW. PE-Pittsfield requests privileged treatment for certain attachments to the filing.

Comment Date: January 14, 2004.

2. Dominion Energy Kewaunee, Inc., Wisconsin Power and Light Company, and Wisconsin Public Service Corporation

[Docket No. EC04-43-000]

Take notice that on December 19, 2003, Dominion Energy Kewaunee, Inc., Wisconsin Power and Light Company and Wisconsin Public Service Corporation (collectively, Applicants) tendered for filing with the Federal Energy Regulatory Commission a joint applicant pursuant to section 203 of the Federal Power Act, seeking approvals and acceptances relating to the sale of the Kewaunee Nuclear Power Plant (nominally rated net capacity of 543 MW) and appurtenant interconnection facilities located in Kewaunee County, Wisconsin. This application contains a request for privileged treatment of the Asset Sales Agreement, which includes the Power Purchase Agreements.

Comment Date: January 13, 2004.

3. Duke Energy Vermillion, LLC

[Docket No. EG04-24-000]

On December 19, 2003, Duke Energy Vermillion, LLC (Duke Vermillion) filed an application with the Federal Energy Regulatory Commission for redetermination of exempt wholesale generator status pursuant to section 32 of the Public Utility Holding Company Act of 1935, as amended, and part 365 of the Commission's regulations.

Comment Date: January 9, 2004.

4. City of Banning, California

[Docket No. EL04-42-000]

Take notice that on December 19, 2003, the City of Banning, California (Banning) submitted for filing changes to its Transmission Revenue Balancing Account Adjustment (TRBAA) and to Appendix I of its Transmission Owner (TO) Tariff. Banning requests a January 1, 2004, effective date for its filing. Banning further requests that the Commission waive any fees for the filing of its revised TRBAA.

Comment Date: January 9, 2004.

5. Central Hudson Gas & Electric Corporation, Consolidated Edison Company of New York, Inc., Long Island Lighting Company, New York State Electric and Gas Corporation, Niagara Mohawk Power Corporation, Orange and Rockland Utilities, Inc., Rochester Gas and Electric Corporation, and New York Power Pool

[Docket Nos. ER97-1523-080, OA97-470-072, and ER97-4234-070]

Take notice that on December 12, 2003, Niagara Mohawk Power Corporation, a National Grid Company, submitted a Compliance Filing pursuant to the Commission's November 14, 2003, Order issued in the above-captioned proceedings.

Comment Date: January 13, 2004.

6. Central Hudson Gas & Electric Corporation, Consolidated Edison Company of New York, Inc., Long Island Lighting Company, New York State Electric and Gas Corporation, Niagara Mohawk Power Corporation, Orange and Rockland Utilities, Inc., Rochester Gas and Electric Corporation, and New York Power Pool

[Docket Nos. ER97-1523-081, OA97-470-073, and ER97-4234-071]

Take notice that on December 15, 2003, the New York Independent System Operator, Inc., submitted a Compliance Filing pursuant to the Commission's November 14, 2003, Order issued in the above-captioned proceedings.

Comment Date: January 13, 2004.

7. Great Lakes Hydro America, LLC

[Docket No. ER02-159-007]

Take notice that on December 19, 2003, Great Lakes Hydro America LLC (GLHA) submitted for filing a notice of change in status to inform the Commission of GLHA's acquisition of the ownership interest in three companies, each owning a qualifying small power production facility.

Comment Date: January 9, 2004.

8. Las Vegas Cogeneration II, LLC

[Docket No. ER03-222-003]

Take notice that on December 19, 2003, Las Vegas Cogeneration II, LLC, tendered a compliance filing in accordance with the Commission Order issued November 17, 2003, in Docket Nos. EL01-118-000 and 001, Investigation of Terms and Conditions of Public Utility Market-Based Rate Authorizations, 105 FERC ¶ 61,218 (2003).

Comment Date: January 14, 2004.

9. Alliant Energy Neenah, LLC

[Docket No. ER03-533-001]

Take notice that on December 19, 2003, Alliant Energy Neenah, LLC, tendered a compliance filing in accordance with the Commission's Order issued November 17, 2003, in Docket Nos. EL01-118-000 and 001, Investigation of Terms and Conditions of Public Utility Market-Based Rate Authorizations, 105 FERC ¶ 61,218 (2003).

Comment Date: January 14, 2004.

10. Black Hills Wyoming, Inc.

[Docket No. ER03-802-001]

Take notice that on December 19, 2003, Black Hills Wyoming, Inc., tendered a compliance filing in accordance with the Commission's Order issued November 17, 2003, in Docket Nos. EL01-118-000 and 001, Investigation of Terms and Conditions of Public Utility Market-Based Rate Authorizations, 105 FERC ¶ 61,218 (2003).

Comment Date: January 14, 2004.

11. Black Hills Power, Inc., Basin Electric Power Cooperative, and Powder River Energy Corporation

[Docket No. ER03-1354-002]

Take notice that on December 19, 2003, Black Hills Power, Inc., Basin Electric Power Cooperative, and Powder River Energy Corporation tendered for filing revisions to their joint open access transmission tariff with the Federal Energy Regulatory Commission.

Comment Date: January 9, 2004.

12. Craven County Wood Energy Limited Partnership

[Docket No. ER03-1379-002]

Take notice that on December 19, 2003, Craven County Wood Energy Limited Partnership submitted a compliance filing pursuant to the Commission' Order issued November 24, 2003, in Docket Nos. ER03-1379-000 and 001, requesting revisions to its rate schedule conforming to Commission's Order No. 614.

Comment Date: January 9, 2004.

13. Southern Company Services, Inc.

[Docket No. ER04-118-001]

Take notice that on December 19, 2003, Southern Company Services, Inc. submitted revisions to an informational filing required under: (1) The Unit Power Sales Agreement dated July 20, 1988, between Southern Companies (i.e., Alabama Power Company, Georgia Power Company, Gulf Power Company, Mississippi Power Company, Savannah Electric and Power Company, and Southern Company Services, Inc.) and Florida Power & Light Company (FPL); (2) the Unit Power Sales Agreement dated August 17, 1988, between Southern Companies and Jacksonville Electric Authority (JEA); and (3) the Unit Power Sales Agreement dated July 19, 1988, between Southern Companies and Florida Power Corporation (FPC). The original informational filing was filed on October 30, 2003.

Southern Company Services, Inc. states that copies of the revised material have been sent to representatives of FPL, FPC, and JEA.

Comment Date: January 9, 2004.

14. Milford Power Limited Partnership

[Docket No. ER04-278-001]

Take notice that on December 19, 2003, Milford Power Limited Partnership (Milford) filed with the Federal Energy Regulatory Commission pursuant to section 205 of the Federal Power Act an Application to Amend Milford's Proposed Initial FERC Electric Rate Schedule. Milford seeks expedited review and a waiver of the 60-day pre-filing requirement under 18 CFR 35.3.

Comment Date: January 7, 2004.

15. Agway Energy Services, Inc.

[Docket No. ER04-283-001]

Take notice that on December 19, 2003, Agway Energy Services, Inc tendered for filing an amendment to the Notice of Cancellation of its Rate Schedule FERC No. 1.

Comment Date: January 9, 2004.

16. Michigan Electric Transmission Company, LLC

[Docket No. ER04-315-000]

Take notice that on December 19, 2003, Michigan Electric Transmission Company, LLC (METC) submitted an executed Cost Reimbursement Agreement between Michigan Electric Transmission Company, LLC and Michigan Public Power Agency and the executed Cost Reimbursement Agreement between Michigan Electric Transmission Company, LLC and Michigan South Central Power Agency (Cost Reimbursement Agreements). METC requests an effective date of October 1, 2003, for the Cost Reimbursement Agreements.

Comment Date: January 9, 2004.

17. Idaho Power Company

[Docket No. ER04-317-000]

Take notice that on December 19, 2003, Idaho Power Company submitted Notices of Cancellation for forty-nine rate schedules with various counterparties. Idaho Power states that it has served copies of the filing on each of the counterparties. Idaho Power seeks an effective date for the cancellations of December 31, 2003.

Comment Date: January 9, 2004.

18. Dominion Energy Kewaunee, Inc.

[Docket No. ER04-318-000]

Take notice that on December 19, 2003, Dominion Energy Kewaunee, Inc. (Dominion Energy Kewaunee) petitioned the Commission for acceptance of Dominion Energy Kewaunee, Inc. Rate Schedule FERC No. 1; the granting of certain blanket approvals, including the authority to sell electricity at market-based rates; and the waiver of certain Commission regulations.

Comment Date: January 9, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-45 Filed 01-13-04; 8:45 am]

BILLING CODE 6717-01-P